DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 60400, dated October 8, 2004) is amended to reorganize the Division of Global Migration and Quarantine, National Center for Infectious Diseases.

Section C-B, Organization and Functions, is hereby amended as follows:

Delete in its entirety the functional statement for the Division of Global Migration and Quarantine (CR2) and insert the following:

(1) Administers a national quarantine program to protect the United States against the introduction of diseases from foreign countries and the transmission of communicable disease between states; (2) administers an overseas program for the medical examination of immigrants, refugees, and as necessary other migrant populations destined for legal entry to the U.S., with inadmissible health conditions that would pose a threat to public health and impose a burden on public health and hospital facilities; (3) conducts surveillance, research, and prevention programs to prevent minimize morbidity and mortality among the globally mobile populations entering and leaving the United States; (4) maintains liaison with and provides information on global migration and quarantine matters to other Federal agencies, state and local health departments, and other stake holders; (5) provides liaison with international health organizations, such as the Pan American Health Organization and the World Health Organization, and participates in the development of international agreements affecting quarantine; (6) evaluates and provides technical support on the development and enforcement of policies necessary for implementation of federal quarantine authority; (7) conducts studies to provide new information about health hazards abroad, measures for their prevention, and the potential threat of disease introduction into the United States; and (8) provides logistic support to other programs of the Centers for Disease Control and Prevention in the distribution of requested biological agents and movement of biological specimens through U.S. ports of entry.

Delete in its entirety the functional statement for the Office of the Director, (CR21) and insert the following:

(1) Manages, directs, and coordinates the activities of the Division; (2) provides leadership in development of Division policy, program planning, implementation, and evaluation; (3) identifies needs and resources for new initiatives and assigns responsibilities for their development; (4) coordinates liaison with other Federal agencies, State and local health departments, and interested industries; (5) coordinates liaison with international health organizations; (6) provides administrative services, including procurement, property and supply management, travel arrangements, space and facilities maintenance, and timekeeper coordination; (7) provides budgeting and fiscal management for the Division; (8) provides personnel support to the Division, both for Civil Service and Commissioned Corps employees, and assures compliance with HRMO regulations for all personnel matters; and (9) reviews and evaluates all administrative services for both headquarters and Quarantine Stations and provides policy procedures and guidance on such matters.

Delete in its entirety the title and functional statement for the Field Operations Branch (CR22) and insert the following:

Quarantine and Border Health Services Branch (CR22). (1) Develops and implements strategies to monitor for diseases of public health interest arriving persons, animals, cargo, and conveyances at ports of entry to the United States and its possessions; (2) evaluates and revises public health preparedness activities at airports, seaports, and land crossings in the United States and its possessions; (3) reviews operations to assure the effective application of scientific data in implementing programs to monitor the importation of quarantinable and other specified diseases; (4) develops and initiates surveillance and other public health activities at sea, air, and land ports of entry to the United States and its possessions; (5) trains and supervises field staff in the epidemiologica, technical, management, and administrative aspects of quarantine operations; (6) works cooperatively with other agencies and organizations in the United States and abroad to implement, improve, and enhance division activities at ports of entry to the United States and its possessions; (7) provides technical consultation and public health training to federal inspection services to implement the division's activities, apply CDC regulations on quarantine, and ensure appropriate occupational safety and health protection for their staff; (8) collaborates with State and local health departments to prevent transmission and spread of quarantinable diseases and other diseases of public health significance associated with travel; (9) monitors arriving immigrants and refugees at ports of entry to the United States and its possessions and notifies State health departments on identified health conditions; (10) provides logistic support to other CDC programs and expedites the movement of persons, clinical specimens, lifesaving medications, and other materials through federal security; (11) serves as CDC's representative at U.S. ports of entry for operational issues related to bio security and emerging infections; and (12) administers Deratting Certification program.

Delete the title and functional statement for the Surveillance and Epidemiology Branch (CRS23) and insert the following:

Immigrant Refugee and Migrant Health Branch (CRS23). (1) Develops and maintains surveillance systems for infectious diseases among immigrant, refugee, and migrant populations entering the United States or designated for resettlement in the United States; (2) conducts infectious disease surveillance and epidemiological investigations in communities along the U.S.-Mexico border; (3) recommends appropriate, effective intervention and prevention strategies to decrease morbidity and mortality among globally mobile populations and to prevent entry of disease into the United States; (4) performs epidemiologic investigations and scientific research projects related to health issues for immigrant, refugee, and migrant populations; (5) develops, reviews, and evaluates operations in the United States and abroad involving immigrant and refugee medical examination activities; (6) conducts enhanced refugee medical screening examinations; (7) responds to refugee resettlement emergencies, including the provision of technical assistance regarding clinical management and effective interventions to prevent and control infectious diseases in this setting; (8) conducts a continuing review of medical screening procedures to assure the most effective application of current medical practices; administers and monitors activities related to the overseas and domestic medical examinations of immigrants and refugees, convening boards of medical officers to reexamine immigrants and refugees, when necessary, and preparing, publishing, and distributing manuals for examining physicians; (9) works cooperatively and in concert with other Federal and international agencies, voluntary agencies, and foreign governments, both in the United States and abroad, in administering the immigrant and refugee medical screening program; (10) establishes, maintains, and evaluates medical inspection and notification procedures regarding immigrants and refugees, providing coordination and liaison with local and state health departments on the follow-up of those with serious disease or mental problems, in particular notifiable diseases such as tuberculosis; (11) establishes and maintains procedures to process requests for waivers of inadmissible medical conditions; (12) provides scientific and technical support to the operation and regulatory responsibilities of the Division; and (13) provides liaison and coordination of efforts with counterparts in other divisions and centers of CDC, as well as national and international agencies involved in addressing and preventing infectious diseases among globally mobile populations.

Geographic Medicine and Health Promotion Branch (CR24). (1) Through the GeoSentinel Network develops geographic-specific infectious disease risk profiles among mobile populations; (2) coordinates and provides immunization data and recommends appropriate and effective intervention and prevention strategies to decrease morbidity and mortality among international travelers; (3) develops and issues vaccination documents and validation stamps in accordance with the International Health Regulations; (4) conducts surveillance for and assists in investigations of adverse events following administration of traveler vaccines; (5) alerts appropriate disease-specific CDC programs about possible imported cases if disease and supports the relevant program to investigate these events; (6) monitors and analyzes reports of health threats overseas and issues travel notices, alerts and advisors when appropriate; (7) notifies the World Health Organization of the incidence of quarantinable diseases in the United States, as required by the International Health Regulations; (8) inspects shipments of nonhuman primates to ensure compliance with CDC regulations regarding quarantine, conditions of shipment and occupational safety and health of employees exposed to primates; (9) works to decrease the risk of importing zoonotic diseases of public health significance to humans via animals and cargo; (10) performs epidemiologic investigations and scientific research projects among U.S. travelers and imported animals; (11) periodically conducts active surveillance for infectious diseases among imported animals; (12) provides scientific and technical support to the operation and regulatory responsibilities of the Division; and (13) provides liaison and coordination of efforts with counterparts in other divisions of CDC, state and local health authorities, the travel industry, as well as national and international agencies involved in addressing and preventing infectious diseases among international travelers and translocated animals.

Dated: October 19, 2004.
William H. Gimson,
Chief Operating Officer, Centers for Disease Control and Prevention (CDC).

[FR Doc. 04-24213 Filed 10-28-04; 8:45 am]

BILLING CODE 4160-18-M